DEPARTMENT OF ENERGY

Federal Energy Regulatory Commission

[Docket No. EC03-33-000, et al.]

Idaho Power Company, IDACORP Energy, L.P, et al.; Electric Rate and Corporate Filings

December 23, 200.

The following filings have been made with the Commission. The filings are listed in ascending order within each docket classification:

1. Idaho Power Company, IDACORP Energy L.P.

[Docket No. EC03-33-000]

Take notice that on December 18, 2002, Idaho Power Company (Idaho Power) and IDACORP Energy, L.P. (IELP, collectively Applicants) filed an Application for Commission Approval of Disposition of Jurisdictional Facilities under Section 203 of the Federal Power Act. The jurisdictional facilities that are the subject of the Application are certain wholesale power sales transactions (Grays Harbor Transactions) between Idaho Power and Grays Harbor County Public Utility District No. 1. By their Application, Applicants seeks Commission approval for the assignment of the Grays Harbor Transactions from Idaho Power to IELP.

Comment Date: January 8, 2003.

2. Idaho Power Company, IDACORP Energy, L.P.

[Docket No. EC03-34-000]

Take notice that on December 18, 2002, Idaho Power Company (Idaho Power) and IDACORP Energy, L.P. (IELP, collectively Applicants) filed an Application for Commission Approval of Disposition of Jurisdictional Facilities under Section 203 of the Federal Power Act. The jurisdictional facilities that are the subject of the Application are certain wholesale power sales transactions (Overton Transactions) between Idaho Power and Overton Power District No. 5. By their Application, Applicants seeks Commission approval for the assignment of the Overton Transactions from Idaho Power to IELP.

Comment Date: January 8, 2003.

3. Mountain View Power Partners, LLC, San Gorgonio Power Corporation, Centennial Power, Inc., Mountain View Power Partners, LLC

[Docket Nos. EC03-35-000 and ER01-751-002]

Take notice that on December 19, 2002, Mountain View Power Partners, LLC (Mountain View), San Gorgonio Power Corporation (San Gorgonio) and Centennial Power, Inc. (Centennial) tendered for filing an application pursuant to Section 203 of the Federal Power Act for authorization to dispose of jurisdictional facilities. San Gorgonio will transfer 100% of the membership interests in Mountain View to Centennial. Mountain View owns and operates an approximately 66.6 MW wind power generating plant (Project) located in San Gorgonio Pass of Riverside County, California, near the city of Palm Springs. Mountain View is currently wholly owned by San Gorgonio. Pursuant to an acquisition agreement, the proposed transaction will result in the disposition of FERC-jurisdictional facilities consisting of Mountain View's market-based rate tariff, related power sales agreement, and minor interconnection facilities connecting the Project to the transmission grid. Mountain View also requests that the Commission accept this filing as a notice of change in status with respect to its market-based rate authorization.

Comment Date: January 9, 2003.

4. San Diego Gas & Electric Company

[Docket No. ER02-1790-001]

Take notice that on December 16, 2002, pursuant to Commission Order dated June 24, 2002, San Diego Gas & Electric Company (SDG&E) tendered for filing its First Revised Service Agreement No. 1 to SDG&E's FERC Electric Tariff, First Revised Volume No. 6., incorporating revisions to the Interconnection Facilities Agreement with Otay Mesa Generating Company, LLC (OMG). The revised Service Agreement implements Internal Revenue Service Notice 2001-82, “Expansion of Safe Harbor Provisions Under Notice 88-129”, which provides in certain circumstances, regulated public utilities, such as SDG&E will not realize income upon contributions by interconnecting electric generators of certain interconnection facilities. The amendment further clarifies terms pertaining to creditworthiness requirements of OMG and the guarantor of OMG's financial obligations as contemplated by Section 10.22. The amendments were approved in the June 24, 2002 Letter Order, conditioned on SDG&E's filing of the Revised Service Agreement within thirty days. SDG&E requests that the filing be accepted out-of-time.

SDG&E states that copies of the filing have been served on OMG and on the California Public Utilities Commission.

Comment date: January 6, 2003.

5. New England Power Company

[Docket No. ER02-2568-002]

Take notice that on December 19, 2002, in compliance with the Commission's November 19, 2002 “Order Accepting Unexecuted Related Facilities Agreement, As Modified For Filing” (New England Power Company, 101 FERC 61,183), New England Power Company (NEP) submitted for filing First Revised Service Agreement No. 214 between NEP and Lake Road Generating Company, L.P. under NEP's open access transmission tariff, New England Power Company, FERC Electric Tariff, Original Volume No. 9.

Comment Date: January 9, 2003.

6. Commonwealth Edison Company

[Docket No. ER02-2598-001]

Take notice that on December 18, 2002, Commonwealth Edison Company (ComEd) tender for filing a refund report in compliance with the Commission's Order issued on November 21, 2002.

ComEd states that a copy of this filing is being served upon NRG Power Marketing, Inc.

Comment Date: January 8, 2003.

7. PJM Interconnection, L.L.C.

[Docket No. ER03-262-001]

Take notice that on December 19, 2002, the New PJM Co panies and PJM Interconnection, L.L.C. (PJM) submitted a filing to include the New PJM Companies as transmission owners within PJM and to make associated revision to the PJM Transmission Owners Agreement, the PJM West Transmission Owners Agreement (West TOA), the PJM Operating Agreement, and the PJM Open Access trransmission Tariff (PJM Tariff).

Comment Date: January 9, 2003.

8. Arizona Public Service Company

[Docket No. ER03-294-000]

Take notice that on December 19, 2002, Arizona Public Service Company submitted a Notice of Cancellation effective January 1, 2002, Service Agreement No. 60, FERC Electric Tariff, Volume No. 3 dated December 4, 2001.

Comment Date: January 9, 2003.

9. SESCO Enterprises, LLC.

[Docket No. ER03-295-000]

Take notice that on December 18, 2002, SESCO Enterprises, LLC. (SESCO) petitioned the Commission for acceptance of SESCO Rate Schedule No. 1; the granting of certain blanket approvals, including the authority to sell electricity at market-based rates; and the waiver of certain Commission regulations.

SESCO intends to engage in wholesale electric power and energy purchases and sales as a marketer. SESCO is not in the business of generating or transmitting electric power.

Comment Date: January 9, 2003.

10. Southern Company Services, Inc.

Docket Nos. ER03-298-000]

Take notice that on December 18, 2002, Southern Company Services, Inc. (SCS) acting on behalf of Alabama Power Company (APC), filed the Interconnection Agreement (Agreement) between Mobile Energy Services, L.L.C. and APC. The Agreement allows Mobile Energy to interconnect its facility in Mobile, Alabama and to operate in parallel with APC's electric system. The Agreement is dated as of November 18, 2002 and terminates in one (1) year.

An effective date of November 18, 2002 has been requested.

Comment Date: January 8, 2003.

11. American Transmission Company LLC

[Docket No. ES03-18-000]

Take notice that on December 18, 2002, American Transmission Company LLC (ATCLLC) tendered for an Application Under Section 204 of the Federal Power Act for Authorization to Issue notes and debt securities with a total amount outstanding at one time not to exceed $710,000,000, to issue $393,000,000 in additional equity interests and for waiver of certain part 34 requirements.

Comment Date: January 8, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-33076 Filed 12-31-02; 8:45 am]

BILLING CODE 6717-01-P